DEPARTMENT OF JUSTICE

Notice of Lodging of Consent Decree Under the Clean Air Act

Notice is hereby given that on November 14, 2007, a proposed Consent Decree (“Decree”) in United States v. Aspen Petroleum Products, Inc., et al., Civil Action No. 07-cv-02382-WYD-BNB was lodged with the United States District Court for the District of Colorado.

The Decree resolves the United States' claims against Aspen Petroleum Products, Inc., and Terrance Tschatschula under Section 211 of the Clean Air Act (“Act”), 42 U.S.C. 7545, for injunctive relief and civil penalties for violations of the Act and the Fuels regulations promulgated under the Act at 40 CFR part 80. The Decree requires Defendants to pay the United States a civil penalty of $25,000 and also requires Defendants to perform specific injunctive relief if they engage in further activities under the Act.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Aspen Petroleum Products, et al., D.J. Ref. 90-5-2-1-09035.

The Consent Decree may be examined at the Office of the United States Attorney, 1225 Seventeenth Street, Suite 700, Denver, CO 80202, and at U.S. EPA, Office of Enforcement and Compliance Assurance, 12345 W. Alameda, Suite 214, Denver, Co 80228. During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.25 (25 cents per page reproduction cost) payable to the U.S. Treasury or, if by e-mail or fax, forward a check in that amount to the Consent Decree Library at the stated address.

W. Benjamin Fisherow,
Assistant Chief, Environmental Enforcement Section, Environment and Natural Resources Division.

[FR Doc. 07-5868 Filed 11-27-07; 8:45 am]

BILLING CODE 4410-15-M